DEPARTMENT OF EDUCATION

Applications for New Awards; Activities for Traditionally Underserved Populations

AGENCY: Office of Special Education and Rehabilitative Services, Department of Education.

ACTION: Notice.

SUMMARY: The Department of Education (Department) is issuing a notice inviting applications for fiscal year (FY) 2021 for Activities for Traditionally Underserved Populations—Assistance Listing Number 84.315C—to make awards to minority entities and Indian Tribes to improve services under the Rehabilitation Act of 1973, as amended (Rehabilitation Act), especially services provided to individuals from minority backgrounds. This notice relates to the approved information collection under OMB control number 1820-0018.

DATES:

Applications Available: April 13, 2021.

Deadline for Transmittal of Applications: June 14, 2021.

Date of Pre-Application Meeting: The Office of Special Education and Rehabilitative Services (OSERS) will post a PowerPoint presentation that provides general information about the Rehabilitation Services Administration's (RSA) discretionary grants and a PowerPoint presentation specifically about Activities for Traditionally Underserved Populations at https://ncrtm.ed.gov/RSAGrantInfo.aspx. OSERS will conduct a pre-application meeting specific to this competition via conference call to respond to questions. Information about the pre-application meeting will be available at https://ncrtm.ed.gov/RSAGrantInfo.aspx prior to the date of the call. OSERS invites you to send questions to 84.315C@ed.gov in advance of the pre-application meeting. The teleconference information, including the 84.315C pre-application meeting summary of questions and answers, will be available at https://ncrtm.ed.gov/RSAGrantInfo.aspx within six days after the pre-application meeting.

Deadline for Intergovernmental Review: August 11, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Kristen Rhinehart-Fernandez, U.S. Department of Education, 400 Maryland Avenue SW, Room 5094, Potomac Center Plaza, Washington, DC 20202-2800. Telephone (202) 245-6103. Email: 84.315C@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Activities for Traditionally Underserved Populations are designed to improve the quality, access, delivery of services, and the outcomes of those services under the Rehabilitation Act, especially services provided to individuals with disabilities from minority backgrounds, and to increase the capacity of minority entities and Indian Tribes to participate in activities funded under the Rehabilitation Act.

Priority: This priority is from the notice of final priority and requirements (NFP) for this program published elsewhere in this issue of the Federal Register.

Absolute Priority: For FY 2021, this priority is an absolute priority. Under 34 CFR 75.105(c)(3), we consider only applications that meet this priority.

This priority is:

Improving the Delivery of Vocational Rehabilitation Services to, and the Employment Outcomes of, Individuals with Disabilities from Minority Backgrounds.

This priority funds a five-year cooperative agreement to focus on changing the status quo and improving outcomes for individuals with disabilities from minority backgrounds through providing cultural competency training and promoting application for vocational rehabilitation (VR) leadership and staff, collecting and analyzing relevant data, evaluating cultural competency training, and disseminating evidence-based practices. VR counselors and paraprofessionals, human resource and professional development specialists, and VR management and leadership personnel working in State VR agencies and related agencies need to be adequately prepared to effectively meet the needs of individuals with disabilities, especially those from minority backgrounds.

Project Activities:

To be considered for funding under this priority, applicants must, at a minimum, propose a project that will conduct the following activities in a culturally appropriate manner:

(a) Collect and analyze data, including from RSA-911 data ¹ and other relevant sources, about the minority populations and subpopulations identified in the application. Data may include, but is not limited to, employment outcomes, earnings, retention, length of time in VR, challenges or barriers to employment and retention, education, and other relevant data, as available;

¹ The RSA-911 collects a variety of participant characteristics (sex, age, race, disability, health insurance, education level, etc.), barriers to employment (ex-offender, homeless, single parent, etc.), services provided (career, training, and other services), duration of VR case, employment status at the time of exit from the program, and employment status post-exit.

(b) Share the data about the identified minority populations and subpopulations with RSA, State VR agencies, RSA VR technical assistance centers, and other relevant partners and stakeholders;

(c) Develop new or modify existing cultural competency training curricula for VR counselors and paraprofessionals, human resource and professional development specialists, and VR management and leadership personnel working in State VR agencies and related agencies. To satisfy this requirement, the curricula must—-

(1) Contain knowledge, critical awareness, and skills development that confront structural and systemic racism;

(2) Address:

(i) Actions that lead to change, such as full inclusion and participation in the mainstream of society, an individual's right to pursue a meaningful career, respect for self-determination and informed choice, and competitive employment;

(ii) Exploration of unconscious and conscious biases, privilege, stereotypes, prejudicial attitudes, and the dynamics of oppression on an individual; and

(iii) Examination of microaggressions, service culture, policies and practices, and lack of trust in the State VR agency;

(3) Incorporate principles of person-centered planning;

(4) Incorporate culturally appropriate and culturally sensitive training methods;

(5) Include evidence-based ² content, to the extent possible; and

² For the purpose of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1).

(6) Include other critical content, as determined by the project;

(d) Gather input and feedback from a diverse group of stakeholders and subject matter experts to inform the curricula, competencies, training and application, and evaluation, including RSA, State VR agencies, and other relevant partners;

(e) Require, as part of the training, that participants develop action plans to continue applying the knowledge, practices, and awareness gained from the training in their respective work settings;

(f) Create two cohorts to pilot the cultural competency training by the end of the first year and evaluate the results. The cohorts must be comprised of VR counselors and paraprofessionals, human resource and professional development specialists, and VR management and leadership personnel working in State VR agencies and related agencies. For the first cohort, the grantee must collect pre- and post-assessments and feedback from participants. After the first cohort, the grantee must make revisions and improvements to the training curricula and competencies, as necessary. The grantee must then test the training in a second cohort to determine if the revisions and improvements worked.

(g) Deliver cultural competency training to VR counselors and paraprofessionals, human resource and professional development specialists, and VR management and leadership personnel working in State VR agencies and related agencies in years two, three, four, and five. To meet this requirement, the grantee will—

(1) Conduct outreach to VR counselors and paraprofessionals, human resource and professional development specialists, and VR management and leadership personnel working in State VR agencies and related agencies so that they are aware of, and can participate in, cultural competency training;

(2) Offer training using a variety of methods such as a traditional classroom setting, distance learning facilitated by qualified instructors, regional trainings, and through other delivery methods, as appropriate, to meet the needs of the targeted audience;

(3) Use an online learning platform that is user friendly, compatible with most mobile devices and State VR agency platforms, and meets government and industry-recognized standards for accessibility and cybersecurity;

(4) Use grant funds to offset costs associated with travel for participants, as needed;

(5) Conduct an assessment before and after providing training for each participant to establish baseline knowledge, and assess strengths and specific areas for improvement, attainment, and application of skills, and any issues or challenges to be addressed post-training to ensure improved delivery of VR services to the minority populations and subpopulations identified in the application;

(6) Assess participant progress towards completing their action plans and provide coaching to address issues or challenges, as needed; and

(7) Offer continuing education units (CEUs), Commission on Rehabilitation Counseling Credit (CRCC), Certified Rehabilitation Counselor (CRC) credit, a certificate of completion, or another form of documentation or verification, as appropriate, to participants that successfully complete the training and fulfill their action plans.

(h) Enable State VR agencies to apply cultural competency practices to various activities of State VR agencies. In Assume Nothing! A Monograph from the 38th Institute on Rehabilitation Issues to Address Underserved Populations, Including Individuals Who Are Deaf-Blind (2014), several recommendations were offered to help State VR agencies remove attributes of service design and delivery that may result in inequality. In line with those recommendations, to meet this requirement, applicants

must—

(1) Examine reasons for successful and unsuccessful closures among minority VR program participants and identify disparities between minority and non-minority participants; and collaborate and share data on the disparities between minority and non-minority participants with State VR agencies and the VR-TA Center-Quality Management (VRTAC-QM) and VR TA Center-Quality Employment (VRTAC-QE), which began on October 1, 2020, to inform their work with State VR agency personnel to ensure that management decisions are established that support sustainable changes in the way outreach, intake, and VR services are provided based on the cultural competency training VR personnel receive;

(2) Select two of the following focus areas—

(i) Update or revise existing policies and procedures or develop new action plans to strengthen and improve delivery of services in a culturally appropriate and culturally sensitive manner;

(ii) Establish new partnerships and strengthen existing partnerships with community rehabilitation providers, workforce programs, and other relevant local community agencies and organizations (i.e., agencies and organizations that provide services related to behavior and mental health, substance dependence, and intellectual developmental disabilities) to better meet the needs of individuals with disabilities from minority backgrounds;

(iii) Develop business engagement activities for individuals with disabilities from minority backgrounds;

(iv) Create opportunities to involve participants from minority populations, or subpopulations, as appropriate, in the establishment of policies and procedures that encourage collaboration between State VR agencies and other State agencies;

(v) Develop opportunities for staff development and retention designed to provide new and existing VR counselors and paraprofessionals, human resource and professional development specialists, and VR management and leadership personnel from minority populations and subpopulations with peer-to-peer mentorship, as well as guidance and support they may need to be successful; and

(vi) Any other activity that improves delivery of services to and outcomes for individuals with disabilities from minority backgrounds;

(3) Develop products, offer communities of learning, conduct webinars, and offer other training and technical assistance delivery methods, as appropriate, related to (1) and (2) above; and

(4) Follow up with State VR agencies to support the sustainability of cultural competency practices;

(i) Gather input and feedback from a diverse group of stakeholders and subject matter experts to inform the training curricula, application of cultural competency practices in each selected area of focus, the evaluation, the products developed, and the collaborative work with RSA, State VR agencies, and other relevant partners;

(j) Evaluate the project. To satisfy this requirement, the grantee must—

(1) Assess whether cultural competency training provided to VR counselors and paraprofessionals, human resource and professional development specialists, and VR management and leadership personnel working in State VR agencies and related agencies contributed to improvements in the delivery of services to and employment outcomes for individuals with disabilities from minority backgrounds;

(2) Assess whether the application of cultural competency practices led to improvements in policies, approaches, and behaviors in State VR agencies;

(3) Through voluntary focus groups, use of a unique identifier, or another approach that adheres to participant confidentiality requirements in 34 CFR 361.38, gather input and feedback from VR program participants who identify as members of the minority populations or subpopulations described in the application about their experiences to assess whether the cultural competency training and application of cultural competency practices contributed to improvements in the delivery of service; and

(4) Develop a plan for an evaluation that includes, but is not limited to, approaches and methodologies, timelines, instruments, or tools that will be used, a timeline for the evaluation and measurement benchmarks, and a process for gathering feedback from VR counselors and paraprofessionals, human resource and professional development specialists, VR management and leadership personnel, and State VR agencies for continuous improvement throughout years two, three, four, and five of the project;

(k) Develop and maintain a state-of-the-art archiving and dissemination platform, or modify an existing platform, that is open and available to all VR counselors and paraprofessionals, human resource and professional development specialists, VR management and leadership personnel, and State VR agencies. To meet this requirement, the grantee must—

(1) Ensure the archiving and dissemination platform provides a central location for all materials related to the project, such as data collection, reports, training curricula, audiovisual materials, webinars, communities of learning, examples of evidence-based and promising practices related to the selected areas of focus, and other relevant material;

(2) Ensure that all materials developed by the project are accessible to individuals with disabilities in accordance with section 504 of the Rehabilitation Act and title II of the Americans with Disabilities Act, as applicable;

(3) Disseminate information about the project, including products such as outreach, training curricula, presentations, reports, outcomes, and other relevant information through RSA's National Clearinghouse of Rehabilitation Training Materials (NCRTM) (https://ncrtm.ed.gov/);

(4) In the final year budget period, ensure the archiving and dissemination platform can be sustained or coordinate with RSA to transition the platform to the NCRTM so that it may be archived and accessible to all after the grant ends;

(5) Disseminate, to all State VR agencies, RSA-funded Rehabilitation Long-Term Training projects and TA Centers, Department-funded programs, and Federal partners, as applicable, the training material for incorporation into existing curricula, as well as products, analysis of data collected, evidence-based and promising practices, and lessons learned. To satisfy this requirement, the grantee must—

(i) Develop participant guides, implementation materials, toolkits, manuals, and other relevant material for instructors, facilitators, State VR agency directors, and human resource and professional development specialists to effectively deliver cultural competency training, in their respective organizations; and

(ii) Provide outreach to and support State VR agencies, RSA-funded Rehabilitation Long-Term Training projects and TA Centers, Department-funded programs, and Federal partners, as applicable, in incorporating or expanding cultural competency training and in applying cultural competency practices across selected focus areas.

Application Requirements: The following application requirements are from the NFP published elsewhere in this issue of the Federal Register.

Application Requirements:

To be considered for funding under this priority, applicants must, at a minimum, propose a project that will conduct the following activities in a culturally appropriate manner. The Department encourages innovative approaches to meet these requirements. Applicants must—

(a) Demonstrate, in the narrative section of the application under “Significance of the Proposed Project,” the minority populations and subpopulations that will be addressed by this project. To meet this requirement, applicants must—

(1) Describe the disparities that exist with respect to VR services and employment outcomes for individuals with disabilities from minority backgrounds, identify education and training needs and any challenges to obtaining education and employment, and present any relevant data;

(2) Describe how the project proposes to improve VR services for, and employment outcomes of, individuals with disabilities from the identified minority backgrounds and subpopulations;

(3) Describe how data about the identified minority populations and subpopulations will be collected and analyzed to inform the field and the training curricula;

(4) Demonstrate how the proposed project will increase the number of VR counselors and paraprofessionals, human resource and professional development specialists, and VR management and leadership personnel trained in providing culturally competent VR services. To meet this requirement, applicants must—

(i) Describe the cultural competencies that VR counselors and paraprofessionals, human resource and professional development specialists, and VR management and leadership personnel must demonstrate to provide high-quality services to individuals with disabilities from minority backgrounds; and

(ii) Present information about potential challenges or difficulties to effectively provide cultural competency training and to apply cultural competency practices and any evidence-based practices or strategies that may be used to address these challenges;

(b) Demonstrate, in the narrative section of the application under “Quality of Project Design,” how the proposed project will meet the requirements and intended outcomes of this priority. To meet this requirement, applicants must—

(1) Describe the plan for implementing the project, including key activities, timelines, milestones, and measurable intended project outcomes. The plan should contain adequate time to develop and pilot the training curricula, as well as develop content to support the selected areas of focus. The plan should also build in alternative ways to deliver training and conduct participant follow-up, in the event that convening face-to-face is not possible due to health and safety concerns;

(2) Describe how the proposed project will gather input and feedback from a diverse group of stakeholders and subject matter experts to inform the curricula, training and application, and evaluation, including communication and coordination with RSA, State VR agencies, and other relevant partners. The plan must include alternative forms of communication if in-person meetings are not permitted due to health safety and concerns;

(3) Describe how the proposed project will provide outreach to VR counselors and paraprofessionals, human resource and professional development specialists, and VR management and leadership personnel working in State VR agencies and related agencies so that they are aware of, and can participate in, cultural competency training;

(4) Describe how cultural competency training will be provided to VR counselors and paraprofessionals, human resource and professional development specialists, and VR management and leadership personnel working in State VR agencies and related agencies, which must include—

(i) Proposed methods, frequency, and duration of the training;

(ii) A proposed methodology for determining training topics;

(iii) A description of how the training needs of recipients, including their ability to respond effectively to the training will be assessed;

(iv) Proposed coaching techniques that may be provided to VR counselors and paraprofessionals, human resource and professional development specialists, and VR management and leadership personnel working in State VR agencies or related agencies to address issues or challenges, as needed;

(v) A proposed training module or an outline of a training module to demonstrate how VR counselors and paraprofessionals, human resource and professional development specialists, and VR management and leadership personnel would be trained. The module or outline is a required attachment in the application and must include, at a minimum—

(A) The goals and objectives of the training module;

(B) A description of what participants should know and be able to do as a result of successfully completing the module or presentation;

(C) Up-to-date resources, publications, and other materials that may be used to develop the training module or outline;

(D) Exercises that will provide an opportunity for application of the subject matter;

(E) A description of how participant knowledge, skills, and abilities will be measured; and

(F) A description of how the outcomes and impact of the cultural competency training will be measured;

(5) Describe how the project will incorporate current research and evidence-based and promising practices, including research about adult learning principles and implementation science, in the development of culturally competent training curricula and enable State VR agencies to apply cultural competency practices to various activities of State VR agencies;

(6) Describe how the project will examine reasons for successful and unsuccessful closures among individuals with disabilities from minority backgrounds, identify disparities between minority and non-minority participants, and describe how this information will be shared with State VR agencies and the VRTAC-QM and VRTAC-QE in ways that will inform their work with State VR agency personnel to ensure that management decisions are established that support sustainable changes in the way outreach, intake, and VR services are provided based on the cultural competency training VR personnel receive;

(7) Select two focus areas from the list described in the priority and develop products, offer communities of learning, conduct webinars, and offer other training and technical assistance delivery methods that are of high quality and of sufficient intensity and duration to achieve the intended outcomes of the proposed project. To meet this requirement, applicants must describe—

(i) Knowledge, skills, and experience in each of the selected areas of focus;

(ii) Methods, frequency, and duration of the activities;

(iii) Proposed methodology for determining selected areas of focus; and

(iv) How follow-up will be provided to State VR agencies to support the sustainability of cultural competency practices within the selected areas of focus; and

(8) Describe how the proposed project will use accessible technology to achieve the intended project outcomes.

(c) Demonstrate, in the narrative section of the application under “Adequacy of Project Resources,” how the proposed costs are reasonable in relation to the anticipated results and benefits. In order to meet this requirement, applicants must—

(1) Describe any proposed consultants or contractors named in the application, their areas of expertise, and provide rationale to demonstrate the need;

(2) Describe costs associated with technology, including, but not limited to, maintaining an online learning platform, state-of-the-art archiving and dissemination platform, and communication tools (i.e., Microsoft Teams, Zoom, Google, Amazon Chime, Skype, etc.) ensuring all products and services are accessible to individuals with disabilities in accordance with Section 504 of the Rehabilitation Act and Title II of the Americans with Disabilities Act, as applicable;

(3) Designate funds to travel to Washington, DC, or for virtual conferences and meetings when the in-person meetings are not possible due to health and safety concerns, in the beginning of the second year of the project for a one and one half day meeting to present an analysis of the pilots, training curricula, delivering additional activities in the selected focus areas, and plans for outreach, dissemination, and evaluation of the project; and

(4) Designate funds to travel to Washington, DC, or virtual conferences and meetings when in-person meetings are not possible due to health and safety concerns, in the final year of the project for a one and one half day meeting to present an analysis of data collected, outcomes, results of the evaluation, evidence-based and promising practices, and lessons learned;

(d) Demonstrate, in the narrative section of the application under “Quality of Project Personnel,” how—

(1) The proposed project will encourage applications for employment from persons who are members of groups that have historically been underrepresented based on race, color, national origin, gender, age, or disability, as appropriate;

(2) The proposed key project personnel will demonstrate the qualifications and experience to provide the training required under this priority and to achieve the project's intended outcomes, including how the proposed project personnel have a degree of knowledge and understanding of cultural factors sufficient to ensure the delivery of training in a culturally appropriate manner; and

(3) The proposed project personnel will demonstrate knowledge and experience working with the VR profession, especially in the provision of services to individuals from minority backgrounds and in working with VR counselors, paraprofessionals, human resource and professional development specialists, and State VR agencies;

(e) Demonstrate, in the narrative section of the application under “Quality of the Management Plan,” how the applicant will ensure that—

(1) The project's intended outcomes, including the evaluation, will be achieved on time and within budget, through—

(i) Clearly defined responsibilities of key project personnel, consultants, and contractors, as applicable;

(ii) Procedures to track and ensure completion of the action steps, timelines, and milestones established for key project activities, requirements, and deliverables;

(iii) Internal monitoring processes to ensure that the project is being implemented in accordance with the established application, cooperative agreement, once developed, and project plan; and

(iv) Internal financial management controls to ensure accurate and timely obligations, drawdowns, and reporting of grant funds, as well as monitoring contracts, in accordance with the Uniform Administrative Requirements, Cost Principles, and Audit Requirements for Federal Awards at 2 CFR part 200 and the terms and conditions of the Federal award;

(2) The allocation of key project personnel, consultants, and contractors, as applicable, including levels of effort of key personnel that are appropriate and adequate to achieve the project's intended outcomes, including an assurance that key personnel will have enough availability to ensure timely communications with stakeholders and RSA;

(3) The products and services are of high quality, relevance, and usefulness, in both content and delivery; and

(4) The proposed project will benefit from a diversity of perspectives, including those of State and local personnel, individuals with disabilities from minority backgrounds, providers, researchers, and policy makers, among others, in its development and operation.

Program Authority: 29 U.S.C. 718(b)(2)(B).

Note: The project will be awarded and must be operated in a manner consistent with the nondiscrimination requirements contained in the Federal civil rights laws.

Applicable Regulations: (a) The Education Department General Administrative Regulations in 34 CFR parts 75, 77, 79, 81, 82, 84, and 86. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP.

Note: The regulations in 34 CFR part 79 apply to all applicants except federally recognized Indian Tribes.

Note: The regulations in 34 CFR part 86 apply to institutions of higher education only.

II. Award Information

Type of Award: Cooperative agreement.

Estimated Available Funds: $905,240 in the first year and $910,490 in years two, three, four, and five.

Maximum Award: We will not make an award exceeding $910,490 for a single budget period of 12 months.

Note: This amount will be reduced by an estimated $5,250 in the first year of the award to support peer review for this competition. This amount may change, depending on the final peer review cost.

Estimated Number of Awards: 1.

Note: The Department is not bound by any estimates in this notice.

Project Period: Up to 60 months.

III. Eligibility Information

1. Eligible Applicants: Minority entities and Indian Tribes.

2. a. Cost Sharing or Matching: This competition does not require cost sharing or matching.

b. Indirect Cost Rate Information: This program uses an unrestricted indirect cost rate. For more information regarding indirect costs or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Activities for Traditionally Underserved Populations program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Note: The Executive order does not apply to Indian Tribes.

4. Funding Restrictions: We reference regulations outlining funding restrictions in the Applicable Regulations section of this notice.

5. Recommended Page Limit: The application narrative is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this competition are from 34 CFR 75.210, have a maximum score of 100 points, and are as follows:

(a) Significance. (20 points)

(1) The Secretary considers the significance of the proposed project.

(2) In determining the significance of the proposed project, the Secretary considers the following factors:

(i) The likelihood that the proposed project will result in system change or improvement; and

(ii) The extent to which the proposed project is likely to build local capacity to provide, improve, or expand, services that address the needs of the target population.

(b) Quality of the project design. (30 points)

(1) The Secretary considers the quality of the project design of the proposed project.

(2) In determining the quality of the design of the proposed project, the Secretary considers the following factors:

(i) The extent to which the goals, objectives, and outcomes to be achieved by the proposed project are clearly specified and measurable;

(ii) The extent to which the design for implementing and evaluating the proposed project will result in information to guide replication of project activities or strategies, including information about the effectiveness of the approach or strategies employed by the project;

(iii) The extent to which the proposed project is designed to build capacity and yield results that will extend beyond the period of Federal financial assistance;

(iv) The extent to which the design of the proposed project reflects up-to-date knowledge from research and effective practice;

(v) The extent to which the proposed project will establish linkages with other appropriate agencies and organizations providing services to the target population; and

(vi) The extent to which performance feedback and continuous improvement are integral to the design of the proposed project.

(c) Adequacy of resources. (15 points)

(1) The Secretary considers the adequacy of resources for the proposed project.

(2) In determining the adequacy of resources for the proposed project, the Secretary considers the following factors:

(i) The adequacy of support, including facilities, equipment, supplies, and other resources, from the applicant organization or the lead applicant organization;

(ii) The extent to which the budget is adequate to support the proposed project; and

(iii) The extent to which the costs are reasonable in relation to the objectives, design, and potential significance of the proposed project.

(d) Quality of project personnel. (15 points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel; and

(ii) The qualifications, including relevant training and experience, of project consultants or subcontractors.

(e) Quality of the management plan. (20 points)

(1) The Secretary considers the quality of the management plan for the proposed project.

(2) In determining the quality of the management plan for the proposed project, the Secretary considers the following factors:

(i) The adequacy of the management plan to achieve the objectives of the proposed project on time and within budget, including clearly defined responsibilities, timelines, and milestone for accomplishing project tasks;

(ii) The extent to which the time commitments of the project director and principal investigator and other key project personnel are appropriate and adequate to meet the objectives of the proposed project; and

(iii) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit semiannual and annual performance reports that provide the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 (GPRA) directs Federal departments and agencies to improve the effectiveness of their programs by engaging in strategic planning, setting outcome-related goals for programs, and measuring program results against those goals.

For the purposes of GPRA and Department reporting under 34 CFR 75.110, we have established the following program measures:

Measure 1: Number and percentage of participants (State VR agency personnel) who successfully complete cultural competency training, including completion of action plans.

Measure 2: Based on the State VR agencies that received training, the number and percentage of individuals with disabilities from minority backgrounds determined eligible to receive VR services.

Measure 3: Based on the State VR agencies that received training, the number and percentage of individuals with disabilities from minority backgrounds that received VR services.

Measure 4: Based on the State VR agencies that received training, the number and percentage of individuals with disabilities from minority backgrounds employed at the time of exit.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Test Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs. Delegated the authority to perform the functions and duties of the Assistant Secretary for the Office of Special Education and Rehabilitative Services.

[FR Doc. 2021-07525 Filed 4-9-21; 4:15 pm]

BILLING CODE 4000-01-P